DEPARTMENT OF THE INTERIOR

National Park Service

[NPS-WASO-NRNHL-DTS#-25949; PPWOCRADI0, PCU00RP14.R50000]

National Register of Historic Places; Notification of Pending Nominations and Related Actions

AGENCY: National Park Service, Interior.

ACTION: Notice.

SUMMARY: The National Park Service is soliciting comments on the significance of properties nominated before June 30, 2018, for listing or related actions in the National Register of Historic Places.

DATES: Comments should be submitted by August 6, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 30, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Cleburne County

Cleburne County High School, 911 Willoughby St., Heflin, SG100002763

Houston County

Main Street Commercial District (Boundary Increase), Roughly bounded by Museum Ave., Crawford, Oates, Newton & College Sts., Dothan, BC100002765

Jefferson County

Magnolia Avenue South Historic District, Magnolia Ave. bounded by Richard Arrington, Jr. Blvd. & 24th St. S, Birmingham, SG100002766

Mobile County

Blue Bird Hardware and Seed, 2724 Old Shell Rd., Mobile, SG100002768

DELAWARE

New Castle County

Homestead Hall, 362 Grears Corner Rd., Townsend, SG100002770

MASSACHUSETTS

Hampden County

Rose, John and Ruth, House, 944 Main Rd., Granville, SG100002772

MINNESOTA

Lake County

HARRIET B. (shipwreck), (Minnesota's Lake Superior Shipwrecks MPS), Address Restricted, Two Harbors vicinity, MP100002773

RHODE ISLAND

Providence County

Rumford Historic District (Boundary Decrease), (East Providence MRA), Pleasant St., Greenwood and Pawtucket Aves, East Providence, BC100002777

Rumford Historic District (Boundary Increase), (East Providence MRA), Pleasant St., Greenwood and Pawtucket Aves, East Providence, BC100002778

Additional documentation has been received for the following resources:

ALABAMA

Dallas County

Riverview Historic District, Roughly bounded by Selma Ave., Satterfield and Lapsley Sts. and the Alabama R., Selma, AD90000887

Lauderdale County

Sannoner Historic District, Includes both sides of N. Pine and N. Court from Tuscaloosa Ave. to University of Alabama, Florence, AD76000336

Nominations submitted by Federal Preservation Officers:

The State Historic Preservation Officer reviewed the following nominations and responded to the Federal Preservation Officer within 45 days of receipt of the nominations and supports listing the properties in the National Register of Historic Places.

IDAHO

Bonneville County

Palisades Dam and Powerplant Historic District, US 26, .81 mi. S of jct. with Forest Road 260, Palisades vicinity, SG100002771

MONTANA

Sanders County

Cougar Peak Lookout, (L-4 Fire Lookouts in the USFS Northern Region (Region 1), 1932-1967 MPS), Plains/Thompson Falls Ranger District, Lolo NF, Thompson Falls vicinity, MP100002774

NORTH CAROLINA

Craven County

U.S. Post Office, Court House, and Custom House, 413 Middle St., New Bern, SG100002775

Authority: Section 60.13 of 36 CFR part 60.

Dated: July 5, 2018.
Julie H. Ernstein,
Acting Chief, National Register of Historic Places/National Historic Landmarks Program and Deputy Keeper of the National Register of Historic Places.

[FR Doc. 2018-15513 Filed 7-19-18; 8:45 am]

BILLING CODE 4312-52-P